DEPARTMENT OF COMMERCE

International Trade Administration

[A-583-854]

Certain Steel Nails From Taiwan: Final Results of Antidumping Duty Administrative Review and Partial Rescission of Administrative Review; 2016-2017

AGENCY: Enforcement and Compliance, International Trade Administration, Department of Commerce.

SUMMARY: The Department of Commerce (Commerce) determines that producers and/or exporters subject to this administrative review made sales of subject merchandise at less than normal value. Interested parties are invited to comment on these results of review.

DATES: Applicable March 27, 2019.

FOR FURTHER INFORMATION CONTACT: Scott Hoefke or Chelsey Simonovich, AD/CVD Operations, Office VI, Enforcement and Compliance, International Trade Administration, Department of Commerce, 1401 Constitution Avenue NW, Washington, DC 20230; telephone: (202) 482-4947or (202) 482-1979, respectively.

SUPPLEMENTARY INFORMATION:

Background

On August 10, 2018, Commerce published the Preliminary Results of this administrative review.¹ For the events that occurred since the Preliminary Results, see the Issues and Decision Memorandum.² Commerce exercised its discretion to toll all deadlines affected by the partial federal government closure from December 22, 2018, through the resumption of operations on January 29, 2019.³ If the new deadline falls on a non-business day, in accordance with Commerce's practice, the deadline will become the next business day. The revised deadline for the Taiwan nails decision is now March 15, 2019. Commerce conducted this review in accordance with section 751(a) of the Tariff Act of 1930, as amended (the Act). This review covers the following producers/exporters of subject merchandise: Bonuts Hardware Logistic Co., Ltd. (Bonuts); PT Enterprise, Inc./Pro-Team Coil Nail Enterprise, Inc. (PT/Pro-Team); and Unicatch Industrial Co. Ltd. (Unicatch).

¹ See Certain Steel Nails from Taiwan: Preliminary Results of Antidumping Duty Administrative Review and Partial Rescission of Administrative Review; 2016-2017, 83 FR 39675 (August 10, 2018) (Preliminary Results) and accompanying Preliminary Decision Memorandum.

² See Memorandum, “Issues and Decision Memorandum for the Final Results of the 2016-2017 Administrative Review of the Antidumping Duty Order on Certain Steel Nails from Taiwan” (Issues and Decision Memorandum), dated concurrently with this notice and incorporated herein by reference.

³ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Scope of the Order

The merchandise covered by this order is certain steel nails. The certain steel nails subject to the order are currently classifiable under HTSUS subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Certain steel nails subject to these orders also may be classified under HTSUS subheadings 7907.00.60.00, 8206.00.00.00 or other HTSUS subheadings.

While the HTSUS subheadings are provided for convenience and customs purpose, the written description is dispositive.⁴

⁴ A full description of the scope of the order is contained in the Issues and Decision Memorandum.

Analysis of Comments Received

All issues raised in the case and rebuttal briefs filed by parties in this review are addressed in the Issues and Decision Memorandum, which is hereby adopted by this notice. A list of the issues which parties raised, and to which we responded in the Issues and Decision Memorandum, can be found at the Appendix to this notice. The Issues and Decision Memorandum is a public document and is on file electronically via Enforcement and Compliance's Antidumping and Countervailing Duty Centralized Electronic Service System (ACCESS). ACCESS is available to registered users at https://access.trade.gov and is available to all parties in the Central Records Unit, Room B8024 of the main Department of Commerce building. In addition, a complete version of the Issues and Decision Memorandum can be accessed directly on the internet at http://enforcement.trade.gov/frn/index.html. The signed Issues and Decision Memorandum and the electronic version of the Issues and Decision Memorandum are identical in content.

Changes Since the Preliminary Results

Based on our analysis of the comments received, we made certain changes to the Preliminary Results. Specifically, we made adjustments to the constructed value calculation and the antidumping margin programs for PT/Pro-Team and Unicatch for these final results. For a full discussion of these changes, see the Issues and Decision Memorandum.

Application of Facts Available and Adverse Facts Available

We continue to find that Bonuts failed to cooperate to the best of its ability in responding to Commerce's requests for information. Thus, we find that the application of adverse facts available, pursuant to section 776(a)-(b) of the Act, is warranted with respect to Bonuts. For a full description of the methodology and rationale underlying our conclusions, see Issues and Decision Memorandum.

Duty Absorption

In the Preliminary Results, Commerce made a preliminary determination to not examine duty absorption for PT/Pro-Team's and Unicatch's export price (EP) sales, and preliminarily found that Unicatch absorbed antidumping duties for its constructed export price (CEP) sales during the instant POR.⁵ For these final results, no party filed comments on this issue and, therefore, we have made no changes to our Preliminary Results with respect to duty absorption.⁶

⁵ See Preliminary Results and accompanying Preliminary Decision Memorandum at 5-7.

⁶ Id.

Final Results of Review

As a result of this review, Commerce determines that the following margins exist for the period of review (POR) of July 1, 2016 through June 30, 2017:

Producer/exporter | Margin (percent)
Bonuts Hardware Logistic Co., Ltd | 78.13
PT Enterprise, Inc./Pro-Team Coil Nail Enterprise, Inc | 0.00
Unicatch Industrial Co. Ltd | 6.16

Disclosure

We intend to disclose the calculations performed for these final results of review within five days of the date of publication of this notice in the Federal Register, in accordance with 19 CFR 351.224(b).

Duty Assessment

Pursuant to section 751(a)(2)(C) of the Act and 19 CFR 351.212(b)(1), Commerce shall determine, and CBP shall assess, antidumping duties on all appropriate entries of subject merchandise in accordance with the final results of this review. Commerce intends to issue assessment instructions to CBP 15 days after the date of publication of the final results of this administrative review in the Federal Register. We will instruct CBP to apply an ad valorem assessment rate of 78.13 percent, 0.00 percent, and 6.16 percent, respectively, to all entries of subject merchandise during the POR which were produced and/or exported by the companies stated above.

Consistent with Commerce's assessment practice, for entries of subject merchandise during the POR produced by Bonuts, PT/Pro-Team, or Unicatch, for which the producer did not know that its merchandise was destined for the United States, we will instruct CBP to liquidate unreviewed entries at the all-others rate if there is no rate for the intermediate company(ies) involved in the transaction.⁷

⁷ For a full discussion of this practice, see Antidumping and Countervailing Duty Proceedings: Assessment of Antidumping Duties, 68 FR 23954 (May 6, 2003).

Cash Deposit Requirements

The following cash deposit requirements will be effective for all shipments of subject merchandise entered, or withdrawn from warehouse, for consumption on or after the publication date of the final results of this administrative review, as provided for by section 751(a)(2)(C) of the Act: (1) The cash deposit rates for the companies listed in these final results will be equal to the rates established in the final results of this review; (2) for merchandise exported by producers or exporters not covered in this review but covered in a prior segment of this proceeding, the cash deposit rate will continue to be the company-specific rate published for the most recently completed segment in which the company was reviewed; (3) if the exporter is not a firm covered in this review or the original less-than-fair-value (LTFV) investigation, but the producer is, the cash deposit rate will be the rate established for the most recently completed segment of this proceeding for the producer of the subject merchandise; and (4) the cash deposit rate for all other producers or exporters will continue to be 2.16 percent,⁸ the all-others rate established in the LTFV investigation. These cash deposit requirements, when imposed, shall remain in effect until further notice.

⁸ See Certain Steel Nails from Taiwan: Notice of Court Decision Not in Harmony with Final Determination in Less Than Fair Value Investigation and Notice of Amended Final Determination, 82 FR 55090, 55091 (November 20, 2017).

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties Regarding Administrative Protective Order

This notice also serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

We are issuing and publishing this notice in accordance with sections 751(a)(1) and 777(i)(1) of the Act and 19 CFR 351.213(h).

Dated: March 18, 2019.
Christian Marsh,
Deputy Assistant Secretary for Enforcement and Compliance.

Appendix

List of Topics Discussed in the Issues and Decision Memorandum

I. Summary

II. List of Issues

III. Background

IV. Scope of the Order

V. Duty Absorption

VI. Discussion of the Issues

A. General Issues

Comment 1: Constructed Value (CV) Profit—Financial Statements

Comment 2: CV Profit—Calculation Adjustments

B. PT/Pro-Team Issues

Comment 3: Transactions Disregarded Adjustment for Pro-Team's Factory Overhead

Comment 4: Tollers

B. Unicatch Issues

Comment 5: Inclusion of Verification Corrections

Comment 6: Scrap Offset

Comment 7: Cost of Production

Comment 8: Imputed Interest

Comment 9: Freight Revenue

Comment 10: Commissions

Comment 11: TC's U.S. Commissions

Comment 12: U.S. Warehousing Expenses

Comment 13: Programming Errors

VII. Recommendation

[FR Doc. 2019-05427 Filed 3-26-19; 8:45 am]

BILLING CODE 3510-DS-P